DEPARTMENT OF JUSTICE

Notice of Lodging of Partial Consent Decree Under the Comprehensive Environmental Response, Compensation and Liability Act, 42 U.S.C. 9601 et seq.

Under 28 CFR 50.7, notice is hereby given that on March 28, 2001, a proposed partial consent decree (“consent decree”) in United States v. Chrysler Corp., et al., Civil Action No. 5:97CV00894, was lodged with the United States District Court for the Northern District of Ohio.

In this action the United States sought recovery, under Sections 107(a) and 113 of the Comprehensive Environmental Response, Compensation and Liability Act (“CERCLA”), 42 U.S.C. 9607(a) and 9613, of response costs incurred in connection with the Krejci Dump Site in Summit County, Ohio (“Site”). The Decree resolves claims under Sections 106 and 107 of CERCLA against five companies alleged to be liable as a result of having arranged for the disposal of hazardous substances at the Site or having transported hazardous substances to the Site: DaimlerChrysler Corporation, Waste Management of Ohio, Inc., Chevron U.S.A. Inc., Kewanee Industries, Inc., and The Federal Metal Company. The Decree recovers $4,297,500 in response costs, and $477,500 for natural resource damages, relating to the Site.

The Department of Justice will receive for a period of thirty (30) days from the date of this publication comments relating to the proposed consent decree. Comments should be addressed to the Assistant Attorney General of the Environment and Natural Resources Division, Department of Justice, P.O. Box 7611, Washington, DC 20044-7611, and should refer to United States v. Chrysler Corp., et al., D.J. Ref. No. 90-11-3-768.

The proposed consent decree may be examined at the Office of the United States Attorney, 1800 Bank One Center, 600 Superior Avenue, Cleveland, Ohio. A copy of the proposed consent decree may be obtained by mail from the Department of Justice Consent Decree Library, P.O. Box 7611, Washington, DC 20044. In requesting a copy, please enclose a check in the amount of $7.75 (25 cents per page reproduction cost) payable to the Consent Decree Library.

W. Benjamin Fisherow,
Deputy Chief, Environmental Enforcement Section, Environmental and Natural Resources Division.

[FR Doc. 01-8576 Filed 4-6-01; 8:45 am]

BILLING CODE 4410-15-M